DEPARTMENT OF HEALTH AND HUMAN SERVICES

National Institutes of Health

Center for Scientific Review; Amended Notice of Meeting

Notice is hereby given of a change in the meeting of the Center for Scientific Review Special Emphasis Panel, November 3, 2000, 12:30 pm to November 3, 2000, 2:00 pm, NIH, Rockledge 2, Bethesda, MD, 20892 which was published in the Federal Register on October 31, 2000, 65 FR 64977-64979.

The meeting will be held November 8, 2000, 4:00 pm to 5:30 pm. The location remains the same. The meeting is closed to the public.

Dated: November 6, 2000.
LaVerne Y. Stringfield,
Director, Office of Federal Advisory Committee Policy.

[FR Doc. 00-29144 Filed 11-14-00; 8:45 am]

BILLING CODE 4140-01-M